ENVIRONMENTAL PROTECTION AGENCY

40 CFR Part 52

[EPA-R06-OAR-2007-0206; FRL—9809-4]

Approval and Promulgation of Air Quality Implementation Plans; Louisiana; Approval of Section 110(a)(1) Maintenance Plan for the 1997 8-Hour Ozone Standard for the Parish of Pointe Coupee

AGENCY: Environmental Protection Agency (EPA).

ACTION: Direct final rule.

SUMMARY: EPA is granting direct final approval of a revision to the Louisiana State Implementation Plan (SIP) concerning a maintenance plan addressing the 1997 8-hour ozone standard for the parish of Pointe Coupee. On February 28, 2007, the State of Louisiana submitted a SIP revision containing a maintenance plan for the 1997 ozone standard for Pointe Coupee Parish. This plan ensures the continued attainment of the 1997 8-hour ozone National Ambient Air Quality Standard (NAAQS) through the year 2014. On March 12, 2008, EPA issued a revised ozone standard. Today's action, however, is being taken to address requirements under the 1997 ozone standard. Requirements for this area under the 2008 standard will be addressed in future actions. This maintenance plan meets statutory and regulatory requirements, and is consistent with EPA's guidance.

DATES: This rule is effective on July 8, 2013 without further notice, unless EPA receives relevant adverse comment by June 10, 2013. If EPA receives such comment, EPA will publish a timely withdrawal in the Federal Register informing the public that this rule will not take effect.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the rules section of this Federal Register.

Submit your comments, identified by Docket No. EPA-R06-OAR-2007-0206, by one of the following methods:

• Federal eRulemaking Portal: http://www.regulations.gov. Follow the on-line instructions for submitting comments.

• EPA Region 6 “Contact Us” Web site: http://epa.gov/region6/r6coment.htm. Please click on “6PD” (Multimedia) and select “Air” before submitting comments.

• Email: Mr. Guy Donaldson at donaldson.guy@epa.gov. Please also send a copy by email to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8:00 a.m. and 4:00 p.m. weekdays except for legal holidays. Special arrangements should be made for deliveries of boxed information.

Instructions: Direct your comments to Docket ID No. EPA-R06-OAR-2007-0206. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the State Air Agency listed below during official business hours by appointment:

Louisiana Department of Environmental Quality, Public Records Center, Room 127, 602 N. Fifth Street, Baton Rouge, Louisiana 70821.

FOR FURTHER INFORMATION CONTACT: Ms. Ellen Belk or Ms. Sandra Rennie, Air Planning Section (6PD-L), Environmental Protection Agency, Region 6, 1445 Ross Avenue, Suite 700, Dallas, Texas 75202-2733, telephone (214) 665-2164 or (214) 665-7367; fax number 214-665-7263; email address belk.ellen@epa.gov or rennie.sandra@epa.gov.

SUPPLEMENTARY INFORMATION: Throughout this document, whenever “we” “us” or “our” is used, we mean the EPA.

Outline

I. Background

II. Analysis of the State's Submittal

III. Final Action

IV. Statutory and Executive Order Reviews

I. Background

Under section 107 of the 1977 CAA, Louisiana's Pointe Coupee Parish was designated as a nonattainment area because it did not meet the National Ambient Air Quality Standards (NAAQS) for 1-hour ozone (40 CFR 81.319). Under the 1990 CAA Amendments, Pointe Coupee Parish was included as part of the Baton Rouge nonattainment area, and continued to be designated nonattainment for the 1-hour ozone NAAQS by operation of law. Under these Amendments, the Baton Rouge area, which included Pointe Coupee, was classified as a serious 1-hour ozone nonattainment area, pursuant to sections 107(d) and 181(a) of the CAA Amendments (56 FR 56694).

On December 20, 1995, Louisiana submitted a State Implementation Plan (SIP) requesting that Pointe Coupee Parish be removed from the Baton Rouge nonattainment area and be redesignated to attainment for the 1-hour standard. As part of the submittal, the State provided the required ozone monitoring data and a maintenance plan for the Parish to ensure the area would remain in attainment for 1-hour ozone for a period of 10 years. EPA approved Louisiana's request to redesignate Pointe Coupee Parish to attainment for the 1-hour ozone standard and the maintenance plan on January 6, 1997 (62 FR 648).

On April 30, 2004, EPA designated and classified areas for the 1997 8-hour ozone NAAQS (69 FR 23858), and published the final Phase 1 rule for implementation of the 1997 ozone NAAQS (69 FR 23951). Pointe Coupee Parish was designated as unclassifiable/attainment for the 1997 ozone standard, effective June 15, 2004. The area is consequently required to submit a 10-year maintenance plan under section 110(a) (1) of the CAA and the Phase 1 rule. On May 20, 2005, EPA issued guidance providing information regarding how a state might fulfill the maintenance plan obligation established by the Act and the Phase 1 rule (Memorandum from Lydia N. Wegman to Air Division Directors, Maintenance Plan Guidance Document for Certain 8-hour Ozone Areas Under Section 110(a)(1) of Clean Air Act, May 20, 2005). This SIP revision satisfies the section 110(a) (1) CAA requirements for a plan that provides for implementation, maintenance, and enforcement of the 1997 8-hour ozone NAAQS in the Pointe Coupee Parish 1997 8-hour ozone unclassifiable/attainment area.

On December 22, 2006, the United States Court of Appeals for the District of Columbia Circuit issued an opinion that vacated EPA's Phase 1 Implementation Rule for the 1997 8-Hour Ozone Standard. (South Coast Air Quality Management District. v. EPA, 472 F.3d 882 (DC Cir. 2006). Petitions for rehearing were filed with the Court, and on June 8, 2007, the Court modified the scope of the vacatur of the Phase 1 rule. See 489 F.3d 1245 (DC Cir. 2007), cert. denied, 128 S.Ct. 1065 (2008). The Court vacated those portions of the Rule that provide for regulation of the 1997 8-hour ozone NAAQS nonattainment areas under Subpart 1 in lieu of Subpart 2 and that allow backsliding with respect to new source review, penalties, milestones, contingency plans, and motor vehicle emission budgets. Consequently, the Court's modified ruling does not alter any requirements under the Phase 1 implementation rule for the 1997 8-hour ozone NAAQS for maintenance plans.

II. Analysis of the State's Submittal

On February 28, 2007, the State of Louisiana submitted a SIP revision containing a maintenance plan for the 1997 ozone NAAQS for Pointe Coupee Parish. This February revision provides a 1997 ozone NAAQS maintenance plan for the parish, as required by section 110(a)(1) of the CAA and the provisions of EPA's Phase 1 Implementation Rule (see 40 CFR 51.905(a)(4)). The purpose of this plan is to ensure continued attainment and maintenance of the 1997 8-hour ozone NAAQS in Pointe Coupee Parish.

In this action, EPA is approving the State's maintenance plan for the 1997 ozone NAAQS for Pointe Coupee Parish because EPA finds that the LDEQ submittal meets the requirements of section 110(a)(1) of the CAA, EPA's rule, and is consistent with EPA's guidance. As required, this plan provides for continued attainment and maintenance of the 1997 ozone NAAQS in the area for 10 years from the effective date of the area's designation as unclassifiable/attainment for the 1997 8-hour ozone NAAQS, and includes components illustrating how the Parish will continue in attainment of the 1997 8-hour ozone NAAQS and contingency measures. Each of the section 110(a) (1) plan components is discussed below.

(a) Attainment Inventory. The LDEQ developed comprehensive inventories of VOC and NOX emissions from area, stationary, and mobile sources using 2002 as the base year to demonstrate maintenance of the 1997 ozone NAAQS for Pointe Coupee Parish. The year 2002 is an appropriate year for the LDEQ to base attainment level emissions because States may select any one of the three years on which the 8-hour attainment designation for the 1997 ozone NAAQS was based (2001, 2002, and 2003). The State's submittal contains detailed inventory data and summaries by source category. The 2002 base year inventory is a good choice. Using the 2002 inventory as a base year reflects one of the years used for calculating the air quality design values on which the 8-hour ozone designation decisions were based. It also is one of the years in the 2002-2004 period used to establish baseline visibility levels for the regional haze program.

A practical reason for selecting 2002 as the base year emission inventory is that Section 110(a)(2)(B) of the CAA and the Consolidated Emissions Reporting Rule (67 FR 39602, June 10, 2002) require States to submit emissions inventories for all criteria pollutants and their precursors every three years, on a schedule that includes the emissions year 2002. The due date for the 2002 emissions inventory is established in the rule as June 2004. In accordance with these requirements, the State of Louisiana compiles a statewide EI for point sources on an annual basis. For stationary point sources, for Pointe Coupee Parish, the LDEQ provided estimates for each commercial or industrial operation that emits 100 tons or more per year of VOC or NOX in Appendix A of the maintenance plan. Stationary non-point source data was provided by E.H. Pechan & Associates, Inc., through the Central Regional Air Planning Association (CENRAP) using the methodology in “Consolidation of Emissions Inventories”, section C, page 26. On-road mobile emissions of VOC and NOX were estimated using EPA's MOBILE6.2 motor vehicle emissions factor computer model. Non-road mobile emissions data were derived from the “Emission Inventory Development For Mobile Sources and Agricultural Dust Sources for the Central States” produced by Sonoma Technology, Inc. for CENRAP in October 2004 using EPA's NONROAD 2004 non-road mobile emissions computer model. EPA finds that the LDEQ prepared the 2002 base year emissions inventories for the Parish consistent with EPA's long-established guidance memoranda.

In projecting data for the attainment year 2014 inventory, LDEQ used several methods to project data from the base year 2002 to the years 2008, 2011, and 2014. These projected inventories were developed using EPA-approved technologies and methodologies. Point source and non-point source projections were derived from the Emissions Growth Analysis System version 4.0 (EGAS 4.0). Non-road mobile projections were derived from EGAS 4.0, as well as from the National Mobile Inventory Model.

The following tables provide VOC and NOX emissions data for the 2002 base attainment year inventory, as well as projected VOC and NOX emission inventory data for the years 2008, 2011, and 2014. Please see the Technical Support Document (TSD) for additional emissions inventory data including projections by source category for the parish.

Pointe Coupee Parish VOC and NOX Emissions Inventory Baseline (2002)
and Projections (2008, 2011, and 2014)
Emissions | 2002 tons per day | 2008 tons per day | 2011 tons per day | 2014 tons per day
Total VOC | 8.63 | 8.04 | 7.75 | 7.66
Total NOX | 65.72 | 67.81 | 70.44 | 73.27

As shown in the Table, total VOC emissions are projected to decrease slightly, and total NOX emissions for Pointe Coupee Parish are projected to increase slightly over the 10-year period of the maintenance plan. While emission projections for VOC indicate a downward trend through 2014, NOX emission projections through 2014 show an increase of 7.55 tons per day, or approximately 11% (from 65.72 to 73.27 tpd). This projected increase is relatively small considering that it occurs over a period of approximately twelve years from the 2002 baseline. The slightly upward trend in NOX emissions results primarily from projected increases in emissions for the point source category, although there is also projected to be a very small increase from the nonpoint source category. Emissions of NOX from non-road sources are projected to remain nearly the same, and emissions of NOX from on-road mobile sources are projected to decrease. The EGAS system for projecting emissions may overstate future emissions because the system relies principally on economic growth for the projections. Specifically, the future emissions from NOX point sources can be overstated because the projections do not include reductions from regulatory or permit controls. A review of emissions inventory trends, now available through 2008, confirms that the emission projections in the SIP were overstated. In fact rather than an 11% increase in NOX, emissions have declined by almost 40% since 2002.

Please see the TSD for more information on EPA's analysis and review of the State's methodologies, modeling data and performance, etc. for developing the base and attainment year inventories for the area. As shown in the table and discussion above, the State projected that the future year ozone precursor emissions will be less than or similar to the 2002 base attainment year's emissions. The attainment inventory submitted by the LDEQ for this area is consistent with the criteria as discussed in the EPA Maintenance Plan Guidance memo dated May 20, 2005, and in other guidance documents (please see the docket for additional information). Considering emissions projections together with reductions from measures not accounted for in the state's projections, EPA finds that the future emissions levels in 2008, 2011 and 2014 are expected to be less than or similar to emissions levels in 2002.

Ambient air monitoring data entered into the National Emission Inventory database for 2005 and 2008 supports the above finding.

(b) Maintenance Demonstration. The primary purpose of a maintenance plan is to demonstrate how an area will continue to remain in compliance with the 1997 ozone standard for the 10 year period following the effective date of designation as unclassifiable/attainment. The end projection year is 10 years from the effective date of the attainment designation for the 1997 ozone NAAQS, which for Pointe Coupee Parish was June 15, 2004. Therefore, this plan must demonstrate how the area will remain in attainment through 2014. As discussed in section (a) Attainment Inventory above, Louisiana has identified the level of ozone-forming emissions in Pointe Coupee Parish that was consistent with attainment of the NAAQS for ozone in 2002. Louisiana projected VOC and NOX emissions for the years 2008, 2011, and 2014 in Pointe Coupee Parish and finds that the future emissions levels in those years are projected to be similar to or below the emissions levels in 2002. Please see the TSD for more information on EPA's review and evaluation of the State's 2008, 2011, and 2014 projected emissions inventories.

Louisiana relies on several air quality measures that will provide for additional 8-hour ozone emissions reductions in Point Coupee Parish. These measures include the following, among others:

(1) implementation of EPA's National Rules for VOC Emission Standards: for Automobile Refinish Coatings (63 FR 48806), for Consumer Products (63 FR 48819), and Architectural Coatings (63 FR 48848), for Consumer and Commercial Products Group II (Flexible Packaging Printing Materials, Lithographic Printing Materials, Letterpress Printing Materials) (71 FR 58745), for Consumer and Commercial Products Group III (Paper, Film, and Foil Coatings, Metal Furniture Coatings, and Large Appliance Coatings) (72 FR 57215), and for Consumer and Commercial Products Group IV (Miscellaneous Metal Products Coatings, Plastic Parts Coatings, Auto and Light-Duty Truck Assembly Coatings, Fiberglass Boat and Manufacturing Materials, and Miscellaneous Industrial Adhesives) (73 FR 58481);

(2) enacting of specific requirements from EPA's Tier 2 Motor Vehicle Emission Standards (65 FR 6697), EPA's Heavy-Duty Engine and Vehicle Standards and Highway Diesel Fuel Sulfur Control Requirements (66 FR 5001), as well as EPA's Tier 2 Motor Vehicle Emissions Standards and Gasoline Sulfur Control requirements (65 FR 6697);

(3) EPA's required control of emissions from Non-road Diesel Engines and Fuels (69 FR 38958); and

(4) EPA's Locomotive and Marine Compression-Ignition Engines rule (73 FR 16435). The purpose of these control measures is to reduce levels of 8-hour ozone precursors, including the area of Pointe Coupee Parish, as well as to reduce transport to the Pointe Coupee Parish area from other areas such as Baton Rouge.

(c) Ambient Air Quality Monitoring. The State of Louisiana committed in its maintenance plan to provide operation of an appropriate ozone monitoring network and to work with EPA in compliance with 40 CFR part 58 with regard to the continued adequacy of such a network.

The Point Coupee Parish monitoring site monitored attainment with the 1997 ozone standard from 2002 through 2006. The 1997 ozone NAAQS is 0.08 parts per million based on the three-year average of the fourth-highest daily maximum 8-hour average ozone concentration measured at each monitor within an area. The 1997 ozone standard is considered to be attained at 84 parts per billion (ppb). In 2007 when the maintenance plan was submitted by LDEQ, the three most recent 8-hour ozone design values based on certified data for the Pointe Coupee Parish site were 2003-2005. Table 1 shows the design values before and after 2005.

Table 1—Pointe Coupee Parish Design Values in Parts Per Billion (ppb)
Year | Design value
2003 | 73
2004 | 76
2005 | 81
2006 | 84
2007 | 86
2008 | 83
2009 | 77
2010 | 75
2011 | 75
2012 (preliminary) | 77

A violation of the 1997 8-hour ozone standard in 2007 prevented us from approving this plan earlier. However, certified monitoring data now clearly show that the Parish came back into attainment in 2008 and continues to be in attainment of that standard. Further analysis of the monitoring data revealed that a 4th high exceedance in 2006 was the primary cause for the violation in 2007. Speciated PAMS monitoring data from the adjacent Baton Rouge area showed a spike in stationary source NOX in 2006 which is the likely cause of the exceedance in Pointe Coupee during 2006. Transport of emissions from the Baton Rouge area into Pointe Coupee Parish has been demonstrated in a number of studies.

In August and September 2005, the Baton Rouge metropolitan area (which includes Pointe Coupee) absorbed an estimated 75,000 evacuees from Hurricane Katrina. Upwards of 15,000 of those remained in Baton Rouge through 2006. Increased demands on power generating facilities, and Baton Rouge area refineries compensating for other area refining facilities that were shut down or operating at reduced capacity are likely sources of the stationary source NOX increase. For these reasons, we are considering the 2007 violation an anomaly and proposing approval of this maintenance plan. See the TSD for this action for a more comprehensive discussion of this anomalous violation.

(d) Contingency Plan. The section 110(a)(1) maintenance plans include contingency provisions to correct promptly any violation of the 1997 ozone NAAQS that occurs. The contingency indicator for the Pointe Coupee Parish maintenance plan is based upon monitoring data. The triggering mechanism for activation of contingency measures is a violation of the 1997 ozone standard.¹ In this maintenance plan, if contingency measures are triggered, LDEQ is committing to implement the appropriate measures as expeditiously as practicable, but no later than 24 months following the trigger.

¹ A violation is deemed to have occurred upon the date of EPA's certification of the monitoring data. EPA certified the 2007 data in July 2008. The State's contingency measures plan provides that if there is a violation, then the appropriate control measures to bring Pointe Coupee back into attainment must be implemented no later than 24 months, i.e., July 2010. In order to understand the source of the 2007 ozone violation in the Parish, EPA reviewed the conditions and found that the higher ozone days in Pointe Coupee Parish are due to ozone concentrations or pre-cursors coming primarily from outside of the Parish. Of the twelve days in which there was an exceedance in 2005-2007, eleven show significant influence coming from outside the parish. For ten of the days, the trajectories show influence from the industrial area of Baton Rouge (southeast of Pointe Coupee), and for one of the days the trajectory goes through West and East Feliciana (northeast of Pointe Coupee) The twelfth exceedance was not high enough to be included in the design value calculation. In the docket, see the map entitled, “Analysis of High Ozone Concentrations in Pointe Coupee Parish, LA.” Pointe Coupee's 2008 monitoring data had no exceedances, and the design value for 2008 is below the 1997 8-hour ozone standard. EPA certified the 2008 data in January 2009.

The following contingency measures are identified for implementation: (1) Lowering VOC RACT applicability thresholds for Stage 1 gasoline controls, (2) NOX controls on major sources (100 tpy and greater), (3) Emission offsets for permits (1.10 ratio for VOC and NOX), and (4) Other measures deemed appropriate at the time as a result of advances in control technologies. These contingency measures and schedules for implementation satisfy EPA's long-standing guidance on the requirements of section 110(a)(1) of continued attainment. Continued attainment of the 1997 ozone NAAQS in the area of Pointe Coupee Parish will depend, in part, on the air quality measures discussed previously (see II. (b) above). In addition, Louisiana commits to verify the 8-hour ozone status of the areas air quality through appropriate ambient air quality monitoring, and to quality assure air quality monitoring data according to federal requirements.

III. Final Action

Pursuant to section 110 of the Act, EPA grants direct final approval of the 1997 8-hour ozone maintenance plan for Pointe Coupee Parish, which was submitted by LDEQ on February 28, 2007, which ensures continued attainment of the 1997 8-hour ozone NAAQS through the year 2014. We evaluated the State's submittal and determine that it meets the applicable requirements of the Clean Air Act and EPA regulations, and is consistent with EPA policy.

EPA is publishing this Rule without prior proposal because we view this as a non-controversial action and anticipate no adverse comments. However, in the proposed rules section of this Federal Register publication, we are publishing a separate document that will serve as the proposal to approve the SIP revision if relevant adverse comments are received. This rule will be effective on July 8, 2013 without further notice unless we receive adverse comment by June 10, 2013. If we receive adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 8, 2013. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Nitrogen dioxides, Reporting and recordkeeping requirements, Volatile organic compounds.

Dated: April 24, 2013.
Ron Curry,
Regional Administrator, Region 6.

40 CFR part 52 is amended as follows:

PART 52—APPROVAL AND PROMULGATION OF IMPLEMENTATION PLANS

1. The authority citation for part 52 continues to read as follows:

Authority: 42 U.S.C. 7401 et seq.

Subpart T—Louisiana

2. In § 52.970, the second table in paragraph (e) entitled, “EPA APPROVED LOUISIANA NONREGULATORY PROVISIONS AND QUASI-REGULATORY MEASURES”, is amended by adding one new entry to the end of the table to read as follows:

§ 52.970 Identification of plan.

* * * * *

(e) * * *

* * * * *

EPA-Approved Louisiana Nonregulatory Provisions and Quasi-Regulatory Measures
Name of SIP provision | Applicable geographic or nonattainment area | State submittal date/effective date | EPA Approval date | Explanation
* * * * * * *
1997 8-Hour Ozone Section 110 Maintenance Plan | Pointe Coupee Parish, LA | 2/28/2007 | 5/9/2013 [Insert FR page number where document begins] |

3. Section 52.975 is amended by adding paragraph (l) to read as follows:

§ 52.975 Redesignations and maintenance plans; ozone.

* * * * *

(l) Approval. The Louisiana Department of Environmental Quality (LDEQ) submitted a 1997 8-hour ozone NAAQS maintenance plan for the area of Pointe Coupee Parish on February 28, 2007. The area is designated unclassifiable/attainment for the 1997 8-hour ozone standard. EPA determined this request for Pointe Coupee Parish was complete on May 2, 2007. The maintenance plan meets the requirements of section 110(a)(1) of the Clean Air Act, and is consistent with EPA's maintenance plan guidance document dated May 20, 2005. The EPA therefore approved the 1997 8-hour ozone NAAQS maintenance plan for the area of Pointe Coupee Parish on May 9, 2013.

[FR Doc. 2013-10832 Filed 5-8-13; 8:45 am]

BILLING CODE 6560-50-P